DEPARTMENT OF COMMERCE

National Oceanic and Atmospheric Administration

Agency Information Collection Activities; Submission to the Office of Management and Budget (OMB) for Review and Approval; Comment Request; West Coast Groundfish Trawl Economic Data

AGENCY: National Oceanic & Atmospheric Administration (NOAA), Commerce.

ACTION: Notice of Information Collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before February 2, 2021.

ADDRESSES: Interested persons are invited to submit written comments to Adrienne Thomas, NOAA PRA Officer, at Adrienne.thomas@noaa.gov. Please reference OMB Control Number 0648-0618 in the subject line of your comments. Do not submit Confidential Business Information or otherwise sensitive or protected information.

FOR FURTHER INFORMATION CONTACT: Requests for additional information or specific questions related to collection activities should be directed to Erin Steiner, Northwest Fisheries Science Center, 2725 Montlake Blvd. E, Seattle, WA 98103, (206) 860-3202 or erin.steiner@noaa.gov.

SUPPLEMENTARY INFORMATION:

I. Abstract

This request is for a renewal of a currently approved information collection.

This information collection is needed in order to meet the monitoring requirements of the Magnuson-Stevens Act (MSA). An Individual Fishing Quota (IFQ) Program for the West Coast groundfish trawl fishery was implemented in January 2011 by the Pacific Fisheries Management Council. This mandatory data collection program will continue to collect economic cost earnings data from all harvesters and processors participating in the West Coast groundfish trawl fishery.

Data will be collected from all catcher vessels registered to a limited entry trawl endorsed permit, quota share permit owners, catcher processors registered to catcher processor permits, and motherships registered to mothership permits, first receivers, and shore-based processors that received round or head-and-gutted IFQ groundfish or whiting from a first receiver to provide the necessary information for analyzing the effects of the West Coast Groundfish Trawl Catch Share Program. As stated in 50 CFR 660.114, the Economic Data Collection (EDC) forms due on September 1, 2020, will provide data for the 2019 operating year. Northwest Fishery Science Center (NWFSC) economists will use these data to examine how the implementation of catch share management affects fleet structure, production costs, employment, generation and distribution of economic rent, and regional economic impacts. Analysis based on this data will not only be used for providing information to the Pacific Fisheries Management Council on changes to the catch share program, but also to meet monitoring requirements for catch share programs in the Magnuson-Stevens Act.

II. Method of Collection

Vessel, first receiver and shore-based processor forms may be submitted via mail or electronically. All quota share owner survey forms must be submitted online as part of the quota share permit renewal system.

III. Data

OMB Control Number: 0648-0618.

Form Number(s): None.

Type of Review: Regular submission (extension of a current information collection).

Affected Public: Business or other for-profit and not-for-profit organization.

Estimated Number of Respondents: 349.

Estimated Time per Response: 8 hours for catcher processors, catcher vessels, and motherships, 1 hour for quota share permit owners, and 20 hours for first receivers and shore-based processors.

Estimated Total Annual Burden Hours: 1,975.

Estimated Total Annual Cost to Public: $0 in recordkeeping/reporting costs.

Respondent's Obligation: Mandatory.

Legal Authority: 50 CFR 660.114.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-26688 Filed 12-3-20; 8:45 am]

BILLING CODE 3510-22-P